DEPARTMENT OF HEALTH AND HUMAN SERVICES

Centers for Disease Control and Prevention

Disease, Disability, and Injury Prevention and Control Special Emphasis Panel (SEP): Initial Review

The meeting announced below concerns Human Immunodeficiency Virus (HIV) Prevention Projects for Young Men of Color Who Have Sex with Men and Young Transgender Persons of Color, Funding Opportunity Announcement (FOA) PS11-1113, initial review.

In accordance with Section 10(a)(2) of the Federal Advisory Committee Act (Pub. L. 92-463), the Centers for Disease Control and Prevention (CDC) announces the aforementioned meeting:

Time and Date: 1 p.m.-3 p.m., October 3, 2011 (Closed).

Place: CDC, Corporate Square, Building 8, Room 3015, Atlanta, Georgia 30329, Telephone: (877) 691-5831.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of an application received in response to “HIV Prevention Projects for Young Men of Color Who Have Sex with Men and Young Transgender Persons of Color, FOA PS11-1113.” This meeting will be subsequent to the July 10-13, 2011, and the July 22, 2011, meetings published in the Federal Register on February 22, 2011, Volume 76, Number 35, Pages 9785-9786 and July 7, 2011, Volume 76, Number 130, Page 39879. An application submitted via http://www.grants.gov within the specified timeframe was not reviewed during the initial review period; therefore, the application requires review.

Contact Person for More Information: Harriette Lynch, Public Health Analyst, Extramural Programs, National Center for HIV, Hepatitis and Sexually Transmitted Diseases Prevention, CDC, 1600 Clifton Road, NE., Mailstop E-60, Atlanta, Georgia 30333, Telephone: (404) 498-2726, E-mail: HLynch@cdc.gov.

The Director, Management Analysis and Services Office, has been delegated the authority to sign Federal Register notices pertaining to announcements of meetings and other committee management activities, for both the Centers for Disease Control and Prevention, and the Agency for Toxic Substances and Disease Registry.

Dated: September 20, 2011.
Elaine L. Baker,
Director, Management Analysis and Services Office, Centers for Disease Control and Prevention.

[FR Doc. 2011-24667 Filed 9-22-11; 8:45 am]

BILLING CODE 4163-18-P